CORPORATION FOR NATIONAL AND COMMUNITY SERVICE

Proposed Information Collection; Comment Request

AGENCY: Corporation for National and Community Service.

ACTION: Notice.

SUMMARY: The Corporation for National and Community Service (hereinafter the “Corporation”), as part of its continuing effort to reduce paperwork and respondent burden, conducts a pre-clearance consultation program to provide the general public and federal agencies with an opportunity to comment on proposed and/or continuing collections of information in accordance with the Paperwork Reduction Act of 1995 (PRA95) (44 U.S.C. Sec. 3506(c)(2)(A)). This program helps to ensure that requested data can be provided in the desired format, reporting burden (time and financial resources) is minimized, collection instruments are clearly understood, and the impact of collection requirement on respondents can be properly assessed.

Currently, the Corporation is soliciting comments concerning its proposed renewal of its Engaging Persons with Disabilities in National and Community Service Application Instructions using the Corporation's Electronic Application System, eGrants. Completion of the Engaging Persons with Disabilities in National and Community Service Application Instructions is required to be considered for funding.

Copies of the information collection requests can be obtained by contacting the office listed in the ADDRESSES section of this notice.

DATES: Written comments must be submitted to the individual and office listed in the ADDRESSES section by May 2, 2005.

ADDRESSES: You may submit comments, identified by the title of the information collection activity, by any of the following methods:

(1) By mail sent to: Corporation for National and Community Service, Office of Grants Policy and Operations; Attention Ms. Marci Hunn, Program Officer; 1201 New York Avenue, NW., Washington, DC 20525.

(2) By hand delivery or by courier to the Corporation's mailroom at Room 6010 at the mail address given in paragraph (1) above, between 9 a.m. and 4 p.m. Monday through Friday, except Federal holidays.

(3) By fax to: (202) 565-2787, Attention Ms. Marci Hunn, Program Officer.

(4) Electronically through the Corporation's e-mail address system: DisabilityOutreach@cns.gov.

FOR FURTHER INFORMATION CONTACT: Marci Hunn, (202) 606-5000, ext. 280 or by e-mail at DisabilityOutreach@cns.gov.

SUPPLEMENTARY INFORMATION: The OMB is particularly interested in comments which:

• Evaluate whether the proposed collection of information is necessary for the proper performance of the functions of the Corporation, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology (e.g., permitting electronic submissions of responses).

Description

The purpose of this grant competition is to engage persons with disabilities in national and community service programs. Through Congressional appropriations, this competition was established to fund innovative national or regional partnership models in which organizations serving the disability community connect with volunteer and community service organizations or educational institutions to engage more Americans with disabilities in national and community service. This information collection contains application instructions to apply for funding under the Engaging Persons with Disabilities in National and Community Service competition.

Background

The Application Instructions are completed by applicant organizations interested in supporting an Engaging Persons with Disabilities in National and Community Service grant program. The application is completed electronically by using the Corporation's Web-based system, eGrants.

Current Action

The Corporation seeks to renew and revise application instructions for Engaging Persons with Disabilities in National and Community Service Application Instructions using the eGrants system. When revised, the application will include additional instructions to clarify narrative and work plan sections; will contain an updated list of “Service Categories” used by applicants to identify the types of needs the national service participants will meet; and will contain current references used in the grants management system. The application will otherwise be used in the same manner as the existing application.

Type of Review: New information collection; currently approved through emergency clearance.

Agency: Corporation for National and Community Service.

Title: Engaging Persons with Disabilities in National and Community Service Application Instructions.

OMB Number: 3045-0106.

Agency Number: None.

Affected Public: Eligible applicants to the Corporation for funding for Engaging Persons with Disabilities in National and Community Service grants.

Total Respondents: 120.

Frequency: Annual.

Average Time Per Response: Ten (10) hours.

Estimated Total Burden Hours: 1,200 hours.

Total Burden Cost (capital/startup): None.

Total Burden Cost (operating/maintenance): None.

Comments submitted in response to this notice will be summarized and/or included in the request for Office of Management and Budget approval of the information collection request; they will also become a matter of public record.

Dated: February 25, 2005.
Marlene Zakai,
Director, Office of Grants Policy and Operations.

[FR Doc. 05-4152 Filed 3-2-05; 8:45 am]

BILLING CODE 6050-$$-P